ENVIRONMENTAL PROTECTION AGENCY

[EPA-HQ-OW-2007-0282; FRL-8499-8]

EPA and Army Corps of Engineers Guidance Regarding Clean Water Act Jurisdiction After Rapanos

AGENCIES: U.S. Army Corps of Engineers, DoD; and U.S. Environmental Protection Agency (EPA).

ACTION: Notice; extension of comment period.

SUMMARY: On June 5, 2007, the U.S. Environmental Protection Agency and U.S. Army Corps of Engineers announced agency guidance regarding Clean Water Act (CWA) jurisdiction following the U.S. Supreme Court's decision in the consolidated cases Rapanos v. United States and Carabell v. United States (“Rapanos”). The agencies issued this guidance to ensure that jurisdictional determinations, administrative enforcement actions, and other relevant agency actions being conducted under CWA section 404 are consistent with the Rapanos decision and provide effective protection for public health and the environment. A six-month public comment period to solicit input on early experience with implementing the guidance began on June 8, 2007. The agencies are extending the public comment period by 45 days.

DATES: Public comments are now due by January 21, 2008.

ADDRESSES: Submit your comments, identified by Docket ID No. EPA-HQ-OW-2007-0282, by one of the following methods:

• http:/www.regulations.gov: Follow the on-line instructions for submitting comments.

• E-mail: OW-Docket@epa.gov. Include the docket number, EPA-HQ-OW-2007-0282 in the subject line of the message.

• Mail: Water Docket, Environmental Protection Agency, Mailcode: 2822T, 1200 Pennsylvania Ave., NW., Washington, DC 20460.

• Hand Delivery: 1301 Constitution Ave., NW., Room 3334, Washington, Dc 20460. Such deliveries are only accepted during the Docket's normal hours of operations, and special arrangements should be made for deliveries of boxed information.

• Instructions: Instructions for submitting comments are provided in the notice published on June 8, 2007 (72 FR 31824). Consideration will be given to all comments received by January 21, 2008.

FOR FURTHER INFORMATION CONTACT: Russell Kaiser, Regulatory Community of Practice (CECW-CO), U.S. Army Corps of Engineers, Headquarters, 441 G Street, NW., Washington, DC 20314; telephone number: (202) 761-7763: fax number: (202) 761-5096; e-mail address: Rapanos.Comments@usace.army.mil. Donna M. Downing, Office of Water (4502T), Environmental Protection Agency, 1200 Pennsylvania Ave., NW., Washington, DC 20460; telephone number: (202) 566-1783; e-mail address: CWAwaters@epa.gov.

SUPPLEMENTARY INFORMATION: In the June 8, 2007, issue of the Federal Register (72 FR 31824), the U.S. Environmental Protection Agency and U.S. Army Corps of Engineers announced the issuance of agency guidance, which took effect on that date, regarding Clean Water Act (CWA) jurisdiction following the U.S. Supreme Court's decision in the consolidated cases Rapanos v. Carabell v. United States (126 S. Ct. 2208 (2006)) (“Rapanos”).

The agencies invited public comment and case studies during the first six months implementing the guidance, only early experience with implementing the guidance. Several entities have requested an extension of the comment period for the guidance. The EPA and the Corps find that a 45-day extension of the comment period is warranted. Therefore, the comment period is extended until January 21, 2008.

The agencies, within nine months after the Rapanos guidance was issued, intend to either reissue, revise, or suspend the guidance after carefully considering the public comments received and field experience with implementing the guidance. A copy of the guidance can be found on EPA's Web site at http://www.epa.gov/owow/wetlands/guidance/CWAwaters.html and on the Corps' Web site at http://www.usace.army.mil/cw/cecwo/reg/.

Dated: November 21, 2007.
Benjamin H. Grumbles,
Assistant Administrator for Water, U.S. Environmental Protection Agency.

[FR Doc. 07-5867 Filed 11-27-07; 8:45 am]

BILLING CODE 6560-50-M